DEPARTMENT OF STATE

[Public Notice: 9515]

Advisory Committee on International Economic Policy

ACTION: Notice of open meeting.

The Advisory Committee on International Economic Policy (ACIEP) will meet from 2:00 p.m. until 5:00 p.m., on Tuesday, May 17, in Washington, DC at the State Department, 320 21st Street NW., in conference room 4477. The meeting will be hosted by the Assistant Secretary of State for Economic and Business Affairs, Charles H. Rivkin and Committee Chair Paul R. Charron. The ACIEP serves the U.S. government in a solely advisory capacity, and provides advice concerning topics in international economic policy. It is expected that during this meeting, the ACIEP subcommittees on sanctions policy, investment policy, and the Stakeholder Advisory Board will provide updates on their recent work.

This meeting is open to the public, though seating is limited. Entry to the building is controlled. To obtain pre-clearance for entry, members of the public planning to attend should no later than Monday, May 9, provide their full name and professional affiliation to Alan Krill by email: KrillA@state.gov. Requests for reasonable accommodation should be made to Alan Krill before Monday, May 9. Requests made after that date will be considered, but might not be possible to fulfill.

For additional information, contact Alan Krill, Bureau of Economic and Business Affairs, at (202) 647-0812, or KrillA@state.gov.

Dated: April 6, 2016.
Alan Krill,
Designated Federal Officer, U.S. Department of State.

[FR Doc. 2016-08502 Filed 4-12-16; 8:45 am]

BILLING CODE 4710-AE-P